DEPARTMENT OF TRANSPORTATION

Federal Aviation Administration

14 CFR Part 107

[Docket No. FAA-2024-1975]

Accepted Means of Compliance for Small Unmanned Aircraft Category 3 Operations Over Human Beings; Wingtra AG

AGENCY: Federal Aviation Administration (FAA), DOT.

ACTION: Notice of availability.

SUMMARY: This document announces the acceptance of a means of compliance with FAA regulations for small unmanned aircraft (sUA) Category 3 operations over human beings. The Administrator finds that Wingtra AG's “Proposed Means of Compliance for Operations Over People (OOP),” dated April 30, 2024, provides an acceptable means, but not the only means, of showing compliance with FAA regulations.

DATES: Effective December 30, 2024.

FOR FURTHER INFORMATION CONTACT:

FAA Contact: Kimberly Luu, Cabin Safety Section, AIR-624, Technical Policy Branch, Policy and Standards Division, Aircraft Certification Service, Federal Aviation Administration, 2200 South 216th Street, Des Moines, Washington 98198; telephone and fax 206-231-3414; email Kimberly.H.Luu@faa.gov (mail to: Kimberly.H.Luu@faa.gov).

Wingtra AG Contact: Armin Ambuehl, CTO, Giesshübelstrasse 40, 8045 Zurich, Switzerland, +41 799032851; hello@wingtra.com (mail to: hello@wingtra.com).

SUPPLEMENTARY INFORMATION:

Background

Title 14, Code of Federal Regulations, part 107, subpart D, prescribes the eligibility and operating requirements for civil sUA to operate over human beings in the United States. To be eligible for use, the sUA must meet the requirements of § 107.130(a) for Category 3 operations. These sections require the sUA to be designed, produced, or modified such that it will not cause injury to a human being above a specified severity limit, does not contain any exposed rotating parts that would lacerate human skin, and does not contain any safety defects. Section 107.155 requires that means of compliance with § 107.130(a) be established and FAA-accepted. Section 107.160 requires an applicant to declare that sUA for Category 3 operations meet an FAA-accepted means of compliance.

Means of Compliance Accepted

This notification of availability serves as a formal acceptance by the FAA of Wingtra AG's “Proposed Means of Compliance for Operations Over People (OOP),” dated April 30, 2024, as an acceptable means of compliance, but not the only means of compliance with § 107.130(a) for Category 3 operations. Applicants may also propose alternative means of compliance for FAA review and possible acceptance.

Revisions

Revisions to Wingtra AG's “Proposed Means of Compliance for Operations Over People (OOP),” dated April 30, 2024, will not be automatically accepted, and will require further FAA acceptance for any revisions to be considered as an accepted means of compliance.

Issued in Kansas City, Missouri, on December 20, 2024.
Patrick R. Mullen,
Manager, Technical Policy Branch, Policy and Standards Division, Aircraft Certification Service.

[FR Doc. 2024-31237 Filed 12-27-24; 8:45 am]

BILLING CODE 4910-13-P